DEPARTMENT OF STATE

[Public Notice 6389]

Shipping Coordinating Committee; Notice of Subcommittee Meeting

The Shipping Coordinating Committee (SHC), through its Subcommittee on IMO Administration and Budgeting, will conduct an open meeting at 2 p.m. on Friday, October 31, 2008, in Room 4420 of the United States Coast Guard Headquarters Building, 2100 Second Street, SW., Washington, DC 20593. The primary purpose of the meeting is to prepare for the one hundred and first Session of the International Maritime Organization (IMO) Council to be held at IMO headquarters, in London, United Kingdom, from November 10 to November 14, 2008.

The primary matters to be considered include:

—Adoption of the agenda

—Report of the Secretary-General on credentials

—Strategy and planning

—Organizational reforms

—Resource management:

—Voluntary IMO Member State Audit Scheme

—Consideration of the report of the Marine Environment Protection Committee, the Legal Committee, and Consultative Meeting of Contracting Parties to the London Convention

—Protection of vital shipping lanes

—External relations (World Maritime Day and Relations with specialized agencies, intergovernmental organizations, and non-governmental organizations)

—Report on the status of the Convention and membership of the Organization

—Report on the status of conventions

Members of the public may attend this meeting up to the seating capacity of the room. Persons planning to attend this meeting should contact the meeting coordinator, LCDR Jason Smith not later than 72 hours before the meeting by e-mail at jason.e.smith2@uscg.mil, by phone at (202) 372-1372, by fax at (202) 372-1925, or in writing at Commandant (CG-5212), U.S. Coast Guard Headquarters, 2100 2nd Street, SW., Room 1308, Washington, DC 20593-0001.

The U.S. Coast Guard Headquarters building is accessible by taxi and privately owned conveyance (public transportation is not generally available). Please note, however, that parking in the vicinity of the building is extremely limited. Please also note that due to security considerations, two valid, government issued photo identifications must be presented to gain entrance to the Coast Guard Headquarters building. If you have any questions about this SHC subcommittee meeting, please contact LCDR Jason Smith at the numbers or addresses listed above.

Dated: October 3, 2008.
Mark Skolnicki,
Executive Secretary, Shipping Coordinating Committee, Department of State.

[FR Doc. E8-24331 Filed 10-10-08; 8:45 am]

BILLING CODE 4710-09-P